DEPARTMENT OF LABOR

Office of the Secretary

All Items Consumer Price Index for All Urban Consumers United States City Average

Pursuant to Section 112 of the 1976 amendments to the Federal Election Campaign Act (Pub. L. 94-283), 2 U.S.C. 441a(c)(1)-(2), the Secretary of Labor has certified to the Chairman of the Federal Election Commission and publishes this notice in the Federal Register that the United States City Average All Items Consumer Price Index for All Urban Consumers (1967 = 100) increased 386.8 percent from its 1974 annual average of 147.7 to its 2016 annual average of 718.955 and that it increased 35.5 percent from its 2001 annual average of 530.4 to its 2016 annual average of 718.955. Using 1974 as a base (1974 = 100), I certify that the United States City Average All Items Consumer Price Index for All Urban Consumers thus increased 386.8 percent from its 1974 annual average of 100 to its 2016 annual average of 486.767. Using 2001 as a base (2001 = 100), I certify that the United States City Average All Items Consumer Price Index for All Urban Consumers increased 35.5 percent from its 2001 annual average of 100 to its 2016 annual average of 135.550. Using 2006 as a base (2006 = 100), I certify that the CPI increased 19.1 percent from its 2006 annual average of 100 to its 2016 annual average of 119.052.

Signed at Washington, DC, on March 29, 2017.
Edward C. Hugler,
Acting Secretary of Labor.

[FR Doc. 2017-07832 Filed 4-17-17; 8:45 am]

BILLING CODE 4510-24-P